DEPARTMENT OF THE TREASURY

Submission for OMB Review; Comment Request

April 13, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 21, 2007 to be assured of consideration.

Bureau of Public Debt (BPD)

MB Number: 1535-0094

Type of Review: Extension.

Title: Regulations Governing Payments by the Automated Clearing House Method on Account of United States Securities.

Description: The information is needed in order to make payments to investors in United States Securities by the Automated Clearing House (ACH) method.

Respondents: Individuals or Households.

Estimated Total Burden Hours: 1 hour.

OMB Number: 1535-0131.

Type of Review: Extension.

Title: Application For Disposition of Series I Savings Bonds after the Death of the registered owner(s).

Form: PD F 5394.

Description: Used to distribute Series I savings bonds after the death of the registered owner(s).

Respondents: Individuals or Households.

Estimated Total Burden Hours: 2,050 hours.

OMB Number: 1535-0095.

Type of Review: Extension.

Title: Regulations Governing United States Savings Bonds Series E/EE and H/HH.

Description: The regulations mandate the payment of H/HH interest by Direct Deposit (ACH method).

Respondents: Individuals or Households.

Estimated Total Burden Hours: 1 hour.

OMB Number: 1535-0121.

Type of Review: Extension.

Title: U.S. Treasury Securities State and Local Government Series Early Redemption Request.

Form: PD F 5377.

Description: Used for early redemption of State and Local Government Series Securities.

Respondents: State, Local and Tribal Government.

Estimated Total Burden Hours: 247 hours.

Clearance Officer: Vicki S. Thorpe (304) 480-8150, Bureau of the Public Debt, 200 Third Street, Parkersburg, West Virginia 26106.

OMB Reviewer: Alexander T. Hunt (202) 395-7316, Office of Management and Budget, Room 10235, New Executive Office Building, Washington, DC 20503.

Michael A. Robinson,
Treasury PRA Clearance Officer.

[FR Doc. E7-7562 Filed 4-19-07; 8:45 am]

BILLING CODE 4810-39-P